DEPARTMENT OF ENERGY

Federal Energy Regulatory Commission

[Docket Nos. EL14-5-000; ER13-2428-000 (Not consolidated)]

Notice of Complaint; Frankfort Electric and Water Plant Board; Cities of Barbourville, Bardstown, Bardwell, Benham, Berea, Corbin, Falmouth, Madisonville, Nicholasville, Paris, and Providence, Kentucky v. Kentucky Utilities Company

Take notice that on October 17, 2013, pursuant to section 206 of the Federal Power Act (FPA) and Rule 206 of the Federal Energy Regulatory Commission's (Commission) Rules of Practice and Procedure, 18 CFR 385.206, Frankfort Electric and Water Plant Board and the Cities of Barbourville, Bardstown, Bardwell, Benham, Berea, Corbin, Falmouth, Madisonville, Nicholasville, Paris, and Providence, Kentucky (Complainants or Kentucky Municipals) filed a formal complaint against the Kentucky Utilities Company, (Respondents), seeking an investigation and refund effective date under FPA section 206 and ask that the proceeding be consolidated with Docket no. ER13-2428-000.

The Kentucky Municipals certify that copies of the complaint were served on the contacts for the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on November 6, 2013.

Dated: October 21, 2013.
Kimberly D. Bose,
Secretary.

[FR Doc. 2013-25441 Filed 10-28-13; 8:45 am]

BILLING CODE 6717-01-P